DEPARTMENT OF TRANSPORTATION

Pipeline and Hazardous Materials Safety Administration

Hazardous Materials: Notice of Applications for Modifications to Special Permit

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1-Motor vehicle, 2-Rail freight, 3-Cargo vessel, 4-Cargo aircraft only, 5-Passenger-carrying aircraft.

DATES: Comments must be received on or before December 24, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on December 1, 2020.
Donald P. Burger,
Chief, General Approvals and Permits Branch.

Application No. | Applicant | Regulation(s) affected | Nature of the special permits thereof
Special Permits Data
5749-M | Chemours Company Fc LLC | 173.315(a) | To modify the special permit to authorize a new distillate trailer. (mode 1)
14372-M | Kidde Technologies Inc | 173.309(a), 180.213(a) | To modify the special permit to update the permit with the addition of a new part number. (modes 1, 2, 3, 4, 5)
16308-M | Vero Biotech LLC | 173.175 | To modify the special permit to authorize a new absorbent filler surrounding the ampules being transported. (modes 1, 2, 3, 4, 5)
20584-M | Battery Solutions, LLC | 173.185(f)(3), 173.185(c)(1)(iii), 173.185(c)(1)(iv), 173.185(c)(1)(v), 173.185(c)(3), 173.185(f), 173.185(f)(1) | To modify the special permit to authorize up to 400 lbs. of damaged/defective batteries in individual packaging to be shipped in a 55-gallon drum. (modes 1, 2, 3)
20986-M | Olin Corporation | 172.302(c), 173.26, 173.314(c), 179.13(b) | To modify the special permit to clarify the GRL limit. (mode 2)

[FR Doc. 2020-27018 Filed 12-8-20; 8:45 am]

BILLING CODE 4910-60-P